INTERNATIONAL TRADE COMMISSION

[Investigation No. 731-TA-924 (Final)]

Mussels From Canada

AGENCY: United States International Trade Commission.

ACTION: Termination of investigation.

SUMMARY: On January 30, 2002, the Department of Commerce published a notice in the Federal Register (67 FR 4392) stating that, having received a letter from petitioner in the subject investigation (Great Eastern Mussel Farms, Inc.) withdrawing its petition, Commerce was terminating its antidumping investigation on live processed blue mussels from Canada. Accordingly, pursuant to section 207.40(a) of the Commission's Rules of Practice and Procedure (19 CFR 207.40(a)), the subject investigation is terminated.

EFFECTIVE DATE: January 30, 2002.

FOR FURTHER INFORMATION CONTACT: Sioban Maguire (202-708-4721), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS-ON-LINE) at http://dockets.usitc.gov/eol/public.

Authority: This investigation is being terminated under authority of title VII of the Tariff Act of 1930; this notice is published pursuant to section 207.40 of the Commission's rules (19 CFR 207.40).

Issued: February 5, 2002.
By order of the Commission.
Marilyn R. Abbott,
Acting Secretary.

[FR Doc. 02-3196 Filed 2-8-02; 8:45 am]

BILLING CODE 7020-02-P